FEDERAL COMMUNICATIONS COMMISSION

Public Information Collections Approved by the Office of Management and Budget

AGENCY: Federal Communications Commission.

ACTION: Notice.

SUMMARY: The Federal Communications Commission (FCC) has received Office of Management and Budget (OMB) approval for the following information collection pursuant to the Paperwork Reduction Act of 1995, Public Law 104-13. An agency may not conduct or sponsor and a person is not required to respond to a collection of information unless it displays a currently valid control number.

FOR FURTHER INFORMATION CONTACT: Ghassan Khalek, Federal Communications Commission, 445 12th Street, SW., Washington DC, 20554, (202) 418-02771 or via the Internet at: ghassan.khalek@fcc.gov.

OMB Control Number: 3060-0228.

OMB Approval Date: August 28, 2012.

OMB Expiration Date: August 31, 2015.

Title: Section 80.59—Compulsory ship inspections and Ship Inspection Certificates.

Form Number: FCC Forms 806, 824, 827 and 829.

Type of Review: Revision of a currently approved collection.

Respondents: Business or other for-profit entities, not-for-profit institutions and state, local or tribal government.

Number of Respondents and Responses: 1,310 respondents; 1,310 responses.

Estimated Time per Response: 0.84 hours (5 minutes) up to 4 hours per response.

Frequency of Response: On occasion, annual and every five year reporting requirements, recordkeeping requirement, and third party disclosure requirement.

Obligation to Respond: Required to obtain or retain benefits. Statutory authority for this information collection is contained in 47 U.S.C. 4, 303, 309, 332 and 362 of the Communications Act of 1934, as amended.

Total Annual Burden: 5,445 hours.

Total Annual Cost: N/A.

Privacy Impact Assessment: N/A.

Nature and Extent of Confidentiality: None.

Needs and Uses: The requirement contained in this rule section is necessary to implement the provisions of section 362(b) of the Communications Act of 1934, as amend, which require the Commission to inspect the radio installation of large cargo ships and certain passenger ships at least once a year to ensure that the radio installation is in compliance with the requirements of the Communications Act, and permits the Commission to waive the required annual inspection of certain oceangoing ships for up to 30 days beyond the expiration date of a vessel's radio safety certificate, upon finding that the public interest would be served. The information is used by the Engineer in Charge of FCC Field Offices to determine the eligibility of a vessel for a waiver of the required annual radio station inspection.

Federal Communications Commission.
Marlene H. Dortch,
Secretary.

[FR Doc. 2012-22906 Filed 9-14-12; 8:45 am]

BILLING CODE 6712-01-P